DEPARTMENT OF HEALTH AND HUMAN SERVICES

Administration for Children and Families

[Program Announce No.—HHS-2005-ACF-OCS-EE-0019; CFDA 93.570]

Office of Community Services Announcement for Community Economic Development Discretionary Grants

AGENCY: Office of Community Services (OCS), Administration for Children and Families, HHS.

ACTION: Notice; correction.

SUMMARY: The Office of Community Services Program Announcement for Community Services Block Grant Program; Community Economic Development; Discretionary Grant Program—Operational Projects, Volume 70, Federal Register page number 20126 April 18, 2005, II. Award Information is hereby modified to reflect that the Length of Project Periods is modified as follows: Applications for operational projects exclusively for construction may have budget and project periods for up to five (5) years with use of funds consistent with the workplan. Applications for non-construction projects may have budget and project periods for up to three (3) years consistent with the work plan. Applicants must indicate their expected project period for the proposed project. In addition, the Anticipated Number of Awards will be approximately 24. Note that the President's 2006 budget does not include funding for the Community Economic Development program.

DATES: The closing date for CED applications is July 1, 2005. Applications must be received at the address below by 4:30 p.m. eastern time on or before the closing date. Applications should be mailed to: Administration for Children and Families, Office of Community Services Operations Center, 1515 Wilson Blvd., Suite 100, Arlington, VA 22209, Attention: Barbara Ziegler-Johnson.

Announcement Availability: The program announcement and application materials are available at http://www.Grants.gov. Standard forms and certifications may be found at http://www.acf.hhs.gov/programs/ofs/forms.htm.

Funding Availability: OCS expects to award $16 million in discretionary grants.

FOR FURTHER INFORMATION CONTACT: Debbie Brown, OCS, telephone number (202) 401-3446.

Dated: May 25, 2005.
Josephine B. Robinson,
Director, Office of Community Services.

[FR Doc. 05-10875 Filed 5-31-05; 8:45 am]

BILLING CODE 4184-01-P